DEPARTMENT OF LABOR

Employment and Training Administration

[TA-W-53,497]

Eljer Plumbingware, Inc., Salem, OH; Notice of Termination of Investigation

Pursuant to section 221 of the Trade Act of 1974, an investigation was initiated on November 10, 2003, in response to a petition which was filed by a company official on behalf of workers at Eljer Plumbingware, Inc., Salem, Ohio.

The petitioner has requested that the petition be withdrawn. Consequently, further investigation in this case would serve no purpose, and the investigation has been terminated.

Signed in Washington, DC, this 3rd day of December, 2003.
Linda G. Poole,
Certifying Officer, Division of Trade Adjustment Assistance.

[FR Doc. 03-31675 Filed 12-23-03; 8:45 am]

BILLING CODE 4510-30-P